DEPARTMENT OF JUSTICE

Posting in Final Form of Three Documents Created by Subcommittees of the Interagency ADR Working Group (“IADRWG”) Steering Committee (“Steering Committee”), a Group Of Federal Subject Matter Experts

SUMMARY: The first document, “Protecting the Confidentiality of Dispute Resolution Proceedings: A Guide for Federal Workplace ADR Program Administrators” (“Confidentiality Guide”), provides practical guidance to program administrators on the application of the confidentiality provisions of the Administrative Dispute Resolution Act of 1996, 5 U.S.C. 574, to Federal workplace dispute resolution programs. The second document is the “Guide for Federal Employee Mediators” (a supplementation and annotation of the 2005 Model Standards of Conduct for Mediators issued by the American Arbitration Association, American Bar Association, and the Association for Conflict Resolution), which is for use by federal employee mediators. The third document is the “Guide for Federal Employee Ombuds” (a supplementation and annotation of the Standards for the Establishment and Operations of Ombuds Offices issued on February 9, 2004 by the American Bar Association), prepared by the Steering Committee in conjunction with the Coalition for Federal Ombudsmen, for use by federal employee ombuds. Complete copies of each of the three final documents can be found at the IADRWG Web site, http://www.adr.gov (click on “Guidance”), or may be requested in hard copy from Hon. Richard C. Walters, Administrative Judge, U.S. Department of Veterans Affairs Board of Contract Appeals (09), 810 Vermont Avenue, NW., Washington, DC 20420, telephone 202-273-6747.

In a Notice in the 70 FR 67901, Nov. 9, 2005, the Steering Committee invited interested individuals or organizations to submit comments, within 30 days, on the documents for consideration before they were posted in final form. Complete copies of the three draft guides to which the comments were addressed, as well as a summary of the comments received and disposition thereof for each guide, are posted at http://www.adr.gov (click on “Library/Archives”).

SUPPLEMENTARY INFORMATION: Authority: The Administrative Dispute Resolution Act of 1996, 5 U.S.C. 571-584, requires each Federal agency to promote the use of ADR and calls for the establishment of an interagency committee to assist agencies in the use of ADR. Under this Act, a Presidential Memorandum dated May 1, 1998 created the Interagency ADR Working Group, chaired by the Attorney General, to “facilitate, encourage, and provide coordination” for Federal agencies. In the Memorandum, the President charged the Working Group with assisting agencies with training in “how to use alternative means of dispute resolution”. The three documents are designed to serve this goal.

Executive Overview of the Confidentiality Guide: This document provides practical guidance to Federal administrators on the application of the confidentiality provisions of the Administrative Dispute Resolution Act of 1996 to Federal workplace dispute resolution programs. It extends the guidance issued by the Federal ADR Council, Report on the Reasonable Expectations of Confidentiality Under the Administrative Dispute Resolution Act of 1996, 5 FR 83085, Dec. 29, 2000 (“the 2000 ADR Guidance”), which also may be found at http://www.adr.gov (click on “Guidance”), and is designed to be used in concert with the confidentiality provisions of the ADR Act as well as agency confidentiality policies and guidance. The document describes in practical, non-legal terms the nature and limits of confidentiality in Federal ADR proceedings, and provides suggestions to program administrators on how to ensure appropriate confidentiality is maintained when ADR is used in workplace programs. The topics addressed by the Guide include confidentiality during the various stages of an alternative dispute resolution proceeding, confidentiality agreements, record-keeping, program evaluation, access requests, and non-party participants.

Executive Overview of the Guide for Federal Employee Mediators: This document builds upon the 2005 Model Standards of Conduct for Mediators (“Model Standards”) issued by a joint committee of three major nationwide dispute resolution organizations (American Arbitration Association, American Bar Association, and Association for Conflict Resolution). The Guide sets forth the Model Standards in their entirety and provides further explication through Federal Guidance Notes for Federal employee mediators for mediations they undertake for the Federal government. The Federal Guidance Notes include discussion of impartiality, conflicts of interest, confidentiality, and advertising and solicitation.

Executive Overview of the Guide for Federal Employee Ombuds: This document builds upon the February 9, 2004 Standards for the Establishment and Operations of Ombuds Offices (“Ombuds Standards”) issued by the American Bar Association. The Guide sets forth the Ombuds Standards in their entirety and provides supplementation through Federal Guidance Notes for specific areas unique to federal Ombuds practice. The Federal Guidance Notes include discussion of limitations on ombuds' authority, confidentiality, reporting, and record-keeping.

Aloma A. Shaw,
Staff Assistant, Office of Dispute Resolution, U.S. Department of Justice.

[FR Doc. E6-8382 Filed 5-30-06; 8:45 am]

BILLING CODE 4410-EC-P